FEDERAL ELECTION COMMISSION

Sunshine Act Meetings

TIME AND DATE: Thursday, July 14, 2016 at 10 a.m.

PLACE: 999 E Street NW., Washington, DC (Ninth Floor).

STATUS: This meeting will be open to the public.

MATTERS TO BE CONSIDERED:

Correction and Approval of Minutes for June 16, 2016

Draft Advisory Opinion 2016-06: Internet Association and Internet Association Political Action Committee

Draft Advisory Opinion 2016-07: United National Committee

Proposed Statement of Policy Regarding the Public Disclosure of Closed Enforcement Files

Revisions to Forms

REG 2013-01: Draft Notice of Proposed Rulemaking on Technological Modernization

Management and Administrative Matters

Individuals who plan to attend and require special assistance, such as sign language interpretation or other reasonable accommodations, should contact Shawn Woodhead Werth, Secretary and Clerk, at (202) 694-1040, at least 72 hours prior to the meeting date.

CONTACT PERSON FOR MORE INFORMATION: Judith Ingram, Press Officer, Telephone: (202) 694-1220.

Shawn Woodhead Werth,
Secretary and Clerk of the Commission.

[FR Doc. 2016-16498 Filed 7-8-16; 11:15 am]

BILLING CODE 6715-01-P